DEPARTMENT OF AGRICULTURE

Agricultural Marketing Service

[Docket No. AMS-LPS-17-0046]

United States Standards for Grades of Pork Carcasses

AGENCY: Agricultural Marketing Service, USDA.

ACTION: Notice.

SUMMARY: This Notice informs the public that the U.S. Department of Agriculture's (USDA) Agricultural Marketing Service (AMS) will not proceed with revisions to the United States Standards for Grades of Pork Carcasses (pork standards) at this time.

DATES: August 17, 2018.

ADDRESSES: USDA, AMS, Livestock and Poultry Program (LP), Quality Assessment Division (QAD); 1400 Independence Ave. SW; Room 3932-S, STOP 0258; Washington, DC 20250-0258.

FOR FURTHER INFORMATION CONTACT: David Bowden, Chief, Standardization Branch; USDA, AMS, LP, QAD; 1400 Independence Avenue SW; Room 3932-S, STOP 0258; Washington, DC 20250-0258; phone (202) 690-3148; or via email at David.Bowden@ams.usda.gov.

SUPPLEMENTARY INFORMATION: Official USDA grade standards and associated voluntary, fee-for-service grading programs are authorized under the Agricultural Marketing Act of 1946, as amended (7 U.S.C. 1621 et seq.) (the Act). Specifically, section 203(c) of the Act directs and authorizes the Secretary of Agriculture “to develop and improve standards of quality, condition, quantity, grade, and packaging and recommend and demonstrate such standards in order to encourage uniformity and consistency in commercial practices” (7 U.S.C. 1622(c)). AMS is committed to carrying out this authority in a manner that facilitates the marketing of agricultural products. Accordingly, the primary purpose of USDA grade standards is to divide the population of a commodity into uniform groups (of similar quality, yield, value, etc.) to facilitate marketing. Currently, AMS maintains standards for a wide variety of commodities and in many cases, applies those standards to commodities on a fee-for-service basis.

AMS recognizes that the pork standards must be relevant to be of value to stakeholders and, therefore, recommendations for changes in the standards may be initiated by AMS or by interested parties at any time to achieve that goal. AMS originally posted this Notice seeking comment on the revised pork standards on October 23, 2017, with a closing date of December 22, 2017. Subsequently, AMS reopened the Notice for an additional 60-day comment period, ending March 19, 2018.

Comments

In all, 47 comments were received: There were 19 comments in favor of updating the pork standards, while 24 were opposed; 2 only requested extending the comment period; and 2 commenters did not clearly state a position. Responses received were representative of the pork industry and stakeholders, with the most comments coming from pork industry associations, packers, and producers.

The 19 commenters in support of revised pork standards said that changes were needed in the pork industry to revitalize domestic consumer demand and that the updated standards may be helpful in addressing the decline in purchases of fresh pork products, citing data that the average American consumer buys fresh pork only seven times a year. Some commenters expressed that a revised standard could lead to a USDA fee-for-service grading program, which would enhance uniformity of pork quality and build consumer confidence in pork purchasing decisions. Commenters also said that the revisions were scientifically sound and applicable to pork quality attributes that are consumer-recognized and tied to an improved eating experience. While some recognized the challenge of implementing the proposed standards revisions via a grading program in the modern processing environment, they expressed support for a standardized, objective carcass grading system focused more on quality than percent lean.

Most of the 24 comments against the proposed revisions were similar in nature and asserted the new grades would not add value for pork producers. Some commenters noted that the pork industry and individual companies have worked for many years to improve product quality attributes and promote their efforts through product branding and “niche” marketing, and the revised pork standards would endanger these efforts. Further, some commenters noted that proposed nomenclature of Prime, Choice, and Select, if implemented for pork, could result in devaluation of the established beef grading system. Pork packers and processors expressed concern that implementation of the revised pork standards would be impractical, in part because the technology available to accurately assess quality factors for pork is not yet effective while maintaining today's processing line speeds. Commenters opposed to the revisions also expressed concern that implementation at this time would cause disruption to existing producer-packer relationships and established logistics. Others were concerned that application of the standard specifically to the loin primal without positive correlation with the remaining carcass parts would be misleading, and that any premium generated by applying the standards would not offset the cost of implementing a USDA fee-for-service grading program in the plant.

A few commenters provided responses that were both for and against the revisions, outlining opportunities and challenges similar to those discussed above. All comments are available at the following website: https://www.regulations.gov/docketBrowser?rpp=25&so=DESC&sb=commentDueDate&po=0&dct=PS&D=AMS-LPS-17-0046.

Based on the responses received from the Notices, AMS will not pursue any revisions to the pork standards at this time. AMS stands ready to assist agricultural industries in establishing voluntary standards and grading programs for commodities for which it has authority to do so; the pork industry retains this option should the need arise.

Dated: August 13, 2018.
Bruce Summers,
Administrator, Agricultural Marketing Service.

[FR Doc. 2018-17725 Filed 8-16-18; 8:45 am]

BILLING CODE 3410-02-P